DEPARTMENT OF HOMELAND SECURITY

Federal Emergency Management Agency

[Docket ID FEMA-2013-0002; Internal Agency Docket No. FEMA-B-1351]

Proposed Flood Hazard Determinations

Correction

In notice document 2013-29033 appearing on pages 72920-72922 in the issue of Wednesday, December 4, 2013, make the following correction:

On page 72921, following the heading “II. NON-WATERSHED-BASED STUDIES:” The table should appear as follows:

Community | Community map repository address
Montgomery County, Alabama, and Incorporated Areas
Maps Available for Inspection Online at: www.fema.gov/preliminaryfloodhazarddata
City of Montgomery | City Hall, 103 North Perry Street, Montgomery, AL 36104.
Town of Pike Road | Town Hall, 9575 Vaughn Road, Pike Road, AL 36064.
Unincorporated Areas of Montgomery County | Montgomery County Courthouse Annex 1, 100 South Lawrence Street, Montgomery, AL 36104.
Mohave County, Arizona, and Incorporated Areas
Maps Available for Inspection Online at: http://www.fema.gov/preliminaryfloodhazarddata
City of Kingman | City Hall, 310 North 4th Street, Kingman, AZ 86401.
Unincorporated Areas of Mohave County | County Administration Building, 700 West Beale Street, Kingman, AZ 86401.
Yavapai County, Arizona, and Incorporated Areas
Maps Available for Inspection Online at: http://www.fema.gov/preliminaryfloodhazarddata
Unincorporated Areas of Yavapai County | Yavapai County Flood Control, District Office, 1120 Commerce Drive, Prescott, AZ 86305.
San Bernardino, California, and Incorporated Areas
Maps Available for Inspection Online at: http://www.fema.gov/preliminaryfloodhazarddata
City of Ontario | City Hall, Engineering Department Public Counter, 303 East B Street, Ontario, CA 91764.
City of Rancho Cucamonga | City Hall, Engineering Department Plaza Level, 10500 Civic Center Drive, Rancho Cucamonga, CA 91730.
Ventura, California, and Incorporated Areas
Maps Available for Inspection Online at: http://www.fema.gov/preliminaryfloodhazarddata
City of Camarillo | Public Works Department, 601 Carmen Drive, Camarillo, CA 93010.
Unincorporated Areas of Ventura County | Ventura County Hall of Administration, 800 South Victoria Avenue, Ventura, CA 93009.
Martin County, Florida, and Incorporated Areas
Maps Available for Inspection Online at: http://www.fema.gov/preliminaryfloodhazarddata
City of Stuart | Development Department, 121 Southwest Flagler Avenue, Stuart, FL 34994.
Town of Jupiter Island | Town Hall, 2 Southeast Bridge Road, Hobe Sound, FL 33455.
Town of Ocean Breeze Park | Town Hall, 7 Northeast 3rd Avenue, Jensen Beach, FL 34957.
Town of Sewalls Point | Town Hall, 1 South Sewall's Point Road, Sewall's Point, FL 34996.
Unincorporated Areas of Martin County | Martin County Administration Center, 2401 Southeast Monterey Road, 2nd Floor, Stuart, FL 34996.
Okeechobee County, Florida, and Incorporated Areas
Maps Available for Inspection Online at: http://www.fema.gov/preliminaryfloodhazarddata
City of Okeechobee | City Hall, Clerk's Office, 55 Southeast 3rd Avenue, Room 100, Okeechobee, FL 34974.
Unincorporated Areas of Okeechobee County | Okeechobee County Planning and Zoning Division, County Annex Building, 499 Northwest 5th Avenue, Okeechobee, FL 34972.
Claiborne County, Tennessee, and Incorporated Areas
Maps Available for Inspection Online at: www.fema.gov/preliminaryfloodhazarddata
Unincorporated Areas of Claiborne County | Claiborne County Courthouse, 1740 Main Street, Tazewell, TN 37879.

[FR Doc. C1-2013-29033 Filed 1-21-14; 8:45 am]

BILLING CODE 1505-01-D